NORTHEAST DAIRY COMPACT COMMISSION

Notice of Meeting

AGENCY: Northeast Dairy Compact Commission.

ACTION: Notice of meeting.

SUMMARY: The Compact Commission will hold its monthly meeting to consider matters relating to administration and enforcement of the price regulation, including the reports and recommendations of the Commission's standing Committees. The Commission will also continue its deliberative meeting, which was convened at the December 1, 1999 and January 5, 2000 Commission meetings, to consider whether to implement an assessment/refund supply management program.

DATES: The meeting will begin immediately following the public hearing on technical amendments to the Over-order Price Regulation scheduled to commence at 10 a.m. on Wednesday, February 2, 2000.

ADDRESSES: The meeting will be held at The Centennial Inn, Armenia White Room, 96 Pleasant Street, Concord, New Hampshire (I-93 Exit 14).

FOR FURTHER INFORMATION CONTACT: Kenneth M. Becker, Executive Director, Northeast Dairy Compact Commission, 34 Barre Street, Suite 2, Montpelier, VT 05602. Telephone (802) 229-1941.

Authority: 7 U.S.C. 7256.

Dated: January 19, 2000.
Kenneth M. Becker,
Executive Director.

[FR Doc. 00-1711 Filed 1-24-00; 8:45 am]

BILLING CODE 1650-01-P